DEPARTMENT OF EDUCATION

Arbitration Panel Decision Under the Randolph-Sheppard Act

AGENCY: Department of Education.

ACTION: Notice of arbitration panel decision under the Randolph-Sheppard Act.

SUMMARY: The Department of Education (Department) gives notice that on October 2, 2006, an arbitration panel rendered a decision in the matter of Michael Benson v. Georgia Department of Labor, Division of Rehabilitation Services (Case No. R-S/04-2). This panel was convened by the Department under 20 U.S.C. 107d-1(a), after the Department received a complaint filed by the petitioner, Michael Benson.

FOR FURTHER INFORMATION CONTACT: You may obtain a copy of the full text of the arbitration panel decision from Suzette E. Haynes, U.S. Department of Education, 400 Maryland Avenue, SW., room 5022, Potomac Center Plaza, Washington, DC 20202-2800. Telephone: (202) 245-7374. If you use a telecommunications device for the deaf (TDD), you may call the Federal Relay Service at 1-800-877-8339.

Individuals with disabilities may obtain this document in an alternative format (e.g., Braille, large print, audiotape, or computer diskette) on request to the contact person listed under FOR FURTHER INFORMATION CONTACT.

SUPPLEMENTARY INFORMATION: Under section 6(c) of the Randolph-Sheppard Act (the Act), 20 U.S.C. 107d-2(c), the Secretary publishes in the Federal Register a synopsis of each arbitration panel decision affecting the administration of vending facilities on Federal and other property.

Background

This dispute concerned alleged violations of the Act, the implementing regulations in 34 CFR part 395, and State rules and regulations by the Georgia Department of Labor, Division of Rehabilitation Services, the State licensing agency (SLA), regarding Michael Benson's (complainant) placement as the licensed manager of a cafeteria operated under contract at the Federal Law Enforcement Training Center (FLETC) in Brunswick, Georgia.

Summary

In 1999, the SLA was awarded a contract to operate the FLETC cafeteria. In March 1999, the SLA, through its nominee agency Georgia Cooperative Services for the Blind, contracted with Southern Food Service Management (SFM), a private company to act as a teaming partner with the licensed blind vendor selected to operate the FLETC cafeteria.

In mid 1999, complainant responded to the SLA's bid announcement to manage the FLETC cafeteria. In July 1999, complainant was selected as the licensed manager for the FLETC cafeteria and began work in February 2000. In the beginning, complainant felt that there were several problems, i.e., his office was not completed, he was unable to access certain computer documents, and he was not provided training.

Additionally, complainant alleged that he had no involvement in the selection of SFM and that the terms of the teaming agreement required that he receive a fixed salary with no right to share in the profits. Further the complainant alleged that the teaming agreement negotiated between the SLA and SFM left him with no staff support to carry out his duties as the cafeteria contract manager. On October 11, 2002, complainant filed a grievance against the SLA on this matter. A fair hearing on the grievance was held on January 16, 2003, and complainant's grievance was denied. On May 15, 2003, complainant filed an appeal. On September 18, 2003, the Administrative Law Judge (ALJ) issued an order denying the appeal and any relief to the complainant. The SLA adopted the ALJ's decision as final agency action. Complainant sought review by a Federal arbitration panel of that decision.

Arbitration Panel Decision

The issue heard by the panel was whether the actions taken by the Georgia Department of Labor, Division of Rehabilitation Services violated the Act, 20 U.S.C. 107 et seq., the implementing regulations in 34 CFR part 395, and its own rules and regulations concerning the administration of a cafeteria contract at FLETC and the selection of complainant to manage this facility.

After reviewing all of the records and hearing testimony of witnesses, the majority of the panel ruled that the SLA followed the provisions of the Act, and implementing regulations in the administration of the FLETC cafeteria contract. Therefore, the panel denied complainant's grievance. One panel member dissented.

The views and opinions expressed by the panel do not necessarily represent the views and opinions of the Department.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 14, 2007.
John H. Hager,
Assistant Secretary for Special Education and Rehabilitative Services.

[FR Doc. E7-12143 Filed 6-21-07; 8:45 am]

BILLING CODE 4000-01-P